DEPARTMENT OF COMMERCE

Foreign-Trade Zones Board

[S-42-2022]

Foreign-Trade Zone 24—Pittston, Pennsylvania Application for Subzone Sandvik Mining and Construction Logistics Limited, Clarks Summit, Pennsylvania

An application has been submitted to the Foreign-Trade Zones (FTZ) Board by the Eastern Distribution Center, Inc., grantee of FTZ 24, requesting subzone status for the facility of Sandvik Mining and Construction Logistics Limited, located in Clarks Summit, Pennsylvania. The application was submitted pursuant to the provisions of the Foreign-Trade Zones Act, as amended (19 U.S.C. 81a-81u), and the regulations of the FTZ Board (15 CFR part 400). It was formally docketed on March 28, 2022.

The proposed subzone (4.5 acres) is located at 1200 Griffin Pond Road, Clarks Summit. No authorization for production activity has been requested at this time. The proposed subzone would be subject to the existing activation limit of FTZ 24.

In accordance with the FTZ Board's regulations, Elizabeth Whiteman of the FTZ Staff is designated examiner to review the application and make recommendations to the Executive Secretary.

Public comment is invited from interested parties. Submissions shall be addressed to the FTZ Board's Executive Secretary and sent to: ftz@trade.gov. The closing period for their receipt is May 16, 2022. Rebuttal comments in response to material submitted during the foregoing period may be submitted during the subsequent 15-day period to May 31, 2022.

A copy of the application will be available for public inspection in the “Online FTZ Information Section” section of the FTZ Board's website, which is accessible via www.trade.gov/ftz.

For further information, contact Elizabeth Whiteman at Elizabeth.Whiteman@trade.gov.

Dated: March 29, 2022.
Andrew McGilvray,
Executive Secretary.

[FR Doc. 2022-07005 Filed 4-1-22; 8:45 am]

BILLING CODE 3510-DS-P